COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes products(s) from the Procurement List previously furnished by such agencies.

DATES: Date added to and deleted from the Procurement List: May 04, 2025.

ADDRESSES: Committee for Purchase From People Who Are Blind or Severely Disabled, 355 E Street SW, Suite 325, Washington, DC 20024.

FOR FURTHER INFORMATION CONTACT: Michael R. Jurkowski, telephone: (703) 489-1322, or email CMTEFedReg@AbilityOne.gov.

SUPPLEMENTARY INFORMATION:

Additions

On February 21, 2025, the Committee for Purchase From People Who Are Blind or Severely Disabled (operating as the U.S. AbilityOne Commission) published an initial notice of proposed additions to the Procurement List. (90 FR 10074). This final notice is published pursuant to 41 U.S.C. 8503(a)(2) and 41 CFR 51-2.3. The Committee has determined that the product listed below is suitable for procurement by the Federal Government and has added this product to the Procurement List. In accordance with 41 CFR 51-5.2, the Committee has authorized the qualified nonprofit agencies described with the product as the authorized source of supply. Additionally, in accordance with 41 CFR 51-2.4, the Committee considered relevant information from the contracting activity that this product requirement is not applicable to other Federal entities and has granted the activity's requested preference for purchase or distribution. This product is not available through the Commission's Commercial Distribution Program, and other Federal entities wishing to purchase this product must contact the contracting activity listed directly for information on purchase availability.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

6515-01-697-3028—System, Rigid Immobilization for Extremities

Authorized Source of Supply: Alphapointe, Kansas City, MO

Contracting Activity: DEFENSE LOGISTICS AGENCY, DLA TROOP SUPPORT

Distribution: C-List

Deletions

On February 28, 2025 (90 FR 10890), the Committee for Purchase From People Who Are Blind or Severely Disabled published notice of proposed deletions from the Procurement List. This notice is published pursuant to 41 U.S.C. 8503(a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following products(s) are deleted from the Procurement List:

Product(s)

NSN(s)—Product Name(s):

9905-01-661-2139—Flag, Marking, 4″ x 5″, 21″ Staff, Red

9905-01-661-2146—Flag, Marking, 2½″ x 3½″, 21″ Staff, Red

Authorized Source of Supply: West Texas Lighthouse for the Blind, San Angelo, TX

Contracting Activity: GSA/FSS GREATER SOUTHWEST ACQUISITI, FORT WORTH, TX

Michael R. Jurkowski,
Director, Business Operations.

[FR Doc. 2025-05807 Filed 4-3-25; 8:45 am]

BILLING CODE 6353-01-P